DEPARTMENT OF HEALTH AND HUMAN SERVICES

Health Resources and Services Administration

Charter Renewal for the Advisory Committee on Organ Transplantation

AGENCY: Health Resources and Services Administration (HRSA), Department of Health and Human Services.

ACTION: Notice.

SUMMARY: In accordance with the Federal Advisory Committee Act, the Department of Health and Human Services is hereby giving notice that the charter for the Advisory Committee on Organ Transplantation (ACOT or Committee) is renewed. The effective date of the renewed charter is August 31, 2024.

FOR FURTHER INFORMATION CONTACT: Shelley Tims Grant, Division of Transplantation, HRSA, 5600 Fishers Lane, 08W67, Rockville, Maryland 20857; 301-443-8036; or sgrant@hrsa.gov.

SUPPLEMENTARY INFORMATION: ACOT provides advice and recommendations to the Secretary of Health and Human Services on policy, program development, and other matters of significance concerning the activities under 42 U.S.C. 217a; Section 222 of the Public Health Service Act, as amended. ACOT provides advice and recommendations on proposed or implemented Organ Procurement and Transplantation Network policies (including those related to organ donation, procurement, allocation, transplantation, patient safety, and data collection, among other policy topics), and on such other matters that the Secretary of Health and Human Services determines. ACOT ensures checks and balances, transparency, and a focus on patient-centered practices. The topics covered by ACOT may be broad and cross-sectional.

The renewed charter for ACOT was approved on August 9, 2024. The filing date is August 31, 2024. Renewal of the ACOT charter gives authorization for the Committee to operate until August 31, 2026.

A copy of the ACOT charter is available on the ACOT website at https://www.hrsa.gov/advisory-committees/organ-transplantation. A copy of the charter also can be obtained by accessing the FACA database that is maintained by the Committee Management Secretariat under the General Services Administration. The website address for the FACA database is http://www.facadatabase.gov/.

Maria G. Button,
Director, Executive Secretariat.

[FR Doc. 2024-19618 Filed 8-30-24; 8:45 am]

BILLING CODE 4165-15-P